NUCLEAR REGULATORY COMMISSION

Advisory Committee on Reactor Safeguards; Joint Meeting of the ACRS Subcommittees on Reliability and Probabilistic Risk Assessment and on Human Factors; Notice of Meeting

The ACRS Subcommittees on Reliability and Probabilistic Risk Assessment and on Human Factors will hold a joint meeting on October 9, 2003, Room T-2B3, 11545 Rockville Pike, Rockville, Maryland.

The entire meeting will be open to public attendance.

The agenda for the subject meeting shall be as follows:

Thursday, October 9, 2003—8:30 a.m. until the conclusion of business.

The purpose of this meeting is to discuss seismic, digital I&C, and human factors research activities. The Subcommittees will hear presentations by and hold discussions with representatives of the NRC staff and other interested persons regarding this matter. The Subcommittees will gather information, analyze relevant issues and facts, and formulate proposed positions and actions, as appropriate, for deliberation by the full Committee.

Members of the public desiring to provide oral statements and/or written comments should notify the Designated Federal Officials, Mr. Michael R. Snodderly (telephone: 301-415-6927) or Dr. Medhat M. El-Zeftawy (telephone: 301-415-6889) five days prior to the meeting, if possible, so that appropriate arrangements can be made. Electronic recordings will be permitted during the meeting.

Further information regarding this meeting can be obtained by contacting one of the Designated Federal Officials between 7:30 a.m. and 4:15 p.m. (ET). Persons planning to attend this meeting are urged to contact one of the above named individuals at least two working days prior to the meeting to be advised of any potential changes to the agenda.

Dated: September 23, 2003.
Sher Bahadur,
Associate Director for Technical Support, ACRS/ACNW.

[FR Doc. 03-24851 Filed 9-30-03; 8:45 am]

BILLING CODE 7590-01-P